DEPARTMENT OF LABOR

Employment and Training Administration

[TA-W-53,798]

Mohican Mills, Inc., Lincolnton, NC; Notice of Affirmative Determination Regarding Application for Reconsideration

By letter of February 22, 2004, a petitioner requested administrative reconsideration of the Department of Labor's Notice of Negative Determination Regarding Eligibility to Apply for Worker Adjustment Assistance, applicable to workers of the subject firm. The Department's determination notice was signed on February 2, 2004, and published in the Federal Register on March 12, 2004 (69 FR 11888).

The Department reviewed the request for reconsideration and has determined that the petitioner has provided additional information regarding the appropriate subject worker group. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 16th day of April, 2004.
Elliott S. Kushner,
Certifying Officer, Division of Trade Adjustment Assistance.

[FR Doc. E4-963 Filed 4-29-04; 8:45 am]

BILLING CODE 4510-13-P